FEDERAL ELECTION COMMISSION

[Notice 2006-16]

Filing Dates for the Texas Special Election in the 22nd Congressional District

AGENCY: Federal Election Commission.

ACTION: Notice of filing dates for special election.

SUMMARY: Texas has scheduled a special election on November 7, 2006, to fill the U.S. House of Representatives seat in the Twenty-Second Congressional District vacated by Representative Tom DeLay. There are two possible elections, but only one may be necessary. If no candidate wins a majority of votes in the Special General Election, the two top vote-getters, regardless of party affiliation, will participate in a Special Runoff Election on a date to be set by the Governor after November 7, 2006.

Committees participating in the Texas special election are required to file pre- and post-election reports.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates participating in the Texas Special General Election shall file a 12-day Pre-General Report on October 26, 2006. If there is a majority winner, committees must also file a 30-day Post-General Report on December 7, 2006. (See chart below for the closing date for each report).

Unauthorized Committees (PACs and Party Committees)

Political committees filing on a quarterly basis in 2006 are subject to special election reporting if they make previously undisclosed contributions or expenditures in connection with the Texas Special General Election by the close of books for the applicable report(s). (See chart below for the closing date for each report).

Committees filing monthly that support candidates in the Texas Special General Election should continue to file according to the monthly reporting schedule.

Disclosure of Electioneering Communications (Individuals and Other Unregistered Organizations)

As required by the Bipartisan Campaign Reform Act of 2002, the Federal Election Commission promulgated new electioneering communications rules governing television and radio communications that refer to a clearly identified Federal candidate and are distributed within 60 days prior to a special general election. See 11 CFR 100.29. The statute and regulations require, among other things, that individuals and other groups not registered with the FEC who make electioneering communications costing more than $10,000 in the aggregate in a calendar year disclose that activity to the Commission within 24 hours of the distribution of the communication. See 11 CFR 104.20.

The 60-day electioneering communications period in connection with the Texas Special General runs from September 8, 2006 through November 7, 2006.

Possible Special Runoff Election

In the event that no candidate receives a majority of the votes in the Special General Election, a Special Runoff Election will be held. The Commission will publish a future notice giving the filing dates for that election if it becomes necessary.

Calendar of Reporting Dates for Texas Special Election
Report | Close of books ¹ | Reg./cert. & overnight mailing date | Filing date
If Only The Special General Is Held (11/07/06), Committees Must File:
Pre-General | 10/18/06 | 10/23/06 | 10/26/06
Post-General | 11/27/06 | 12/07/06 | 12/07/06
Year-End | 12/31/06 | 01/31/07 | 01/31/07
If Two Elections Are Held, Committees Involved In Only The Special General (11/07/06) Must File:
Pre-General | 10/18/06 | 10/23/06 | 10/26/06
Year-End | 12/31/06 | 01/31/07 | 01/31/07
¹ The period begins with the close of books of the last report filed by the committee. If the committee has filed no previous reports, the period begins with the date of the committee's first activity.

Dated: September 5, 2006.
Michael E. Toner,
Chairman, Federal Election Commission.

[FR Doc. E6-14961 Filed 9-8-06; 8:45 am]

BILLING CODE 6715-01-P